DEPARTMENT OF AGRICULTURE

Animal And Plant Health Inspection Service

[Docket No. 04-081-1]

Notice of Availability of Draft Document Concerning the Identification of EU Administrative Units

AGENCY: Animal and Plant Health Inspection Service, USDA.

ACTION: Notice of availability and request for comments.

SUMMARY: We are advising the public that a draft document has been prepared by the Animal and Plant Health Inspection Service that identifies the smallest administrative jurisdictions within 11 Member States of the European Union that we would consider “regions” in the event of future animal disease outbreaks. The draft document refers to these jurisdictions as “administrative units” and also reevaluates the administrative units already identified for Italy. We are making this draft document available to the public for review and comment.

DATES: We will consider all comments that we receive on or before June 20, 2005.

ADDRESSES: You may submit comments by either of the following methods:

EDOCKET: Go to http://www.epa.gov/feddocket to submit or view public comments, access the index listing of the contents of the official public docket, and to access those documents in the public docket that are available electronically. Once you have entered EDOCKET, click on the “View Open APHIS Dockets” link to locate this document.

Postal Mail/Commercial Delivery: Please send four copies of your comment (an original and three copies) to Docket No. 04-081-1, Regulatory Analysis and Development, PPD, APHIS, Station 3C71, 4700 River Road Unit 118, Riverdale, MD 20737-1238. Please state that your comment refers to Docket No. 04-081-1.

Reading Room: You may read the draft document and any comments we receive on the draft document in the reading room. The reading room is located in room 1141 of the USDA South Building, 14th Street and Independence Avenue SW., Washington, DC. Normal reading room hours are 8 a.m. to 4:30 p.m., Monday through Friday, except holidays. To be sure someone is there to help you, please call (202) 690-2817 before coming.

You may request a copy of the draft document by calling or writing to the person listed under FOR FURTHER INFORMATION CONTACT. The draft document is also available on the Internet. Instructions for accessing the draft document on the Internet are provided below under SUPPLEMENTARY INFORMATION.

Other Information: You may view APHIS documents published in the Federal Register and related information on the Internet at http://www.aphis.usda.gov/ppd/rad/webrepor.html.

FOR FURTHER INFORMATION CONTACT: Dr. Chip Wells, Senior Staff Veterinarian, Regionalization Evaluation Services Staff, National Center for Import and Export, VS, APHIS, 4700 River Road Unit 38, Riverdale, MD 20737-1231; (301) 734-4356.

SUPPLEMENTARY INFORMATION:

Background

The Animal and Plant Health Inspection Service (APHIS) of the United States Department of Agriculture (USDA) regulates the importation of animals and animal products into the United States to guard against the introduction of animal diseases not currently present or prevalent in this country. The regulations pertaining to the importation of animals and animal products are set forth in the Code of Federal Regulations (CFR), title 9, chapter I, subchapter D (9 CFR parts 91 through 99).

On June 25, 1999, we published in the Federal Register (64 FR 34155-34168, Docket No. 98-090-1) a proposal to, among other things, amend the regulations regarding the importation of swine and swine products from a specifically defined region in the European Union (EU) consisting of Austria, Belgium, France, Greece, Luxembourg, the Netherlands, Portugal, Spain, and parts of Germany and Italy. Consistent with EU terminology, we refer to individual EU countries as “Member States.” In proposing to recognize smaller “regions” within the countries of Germany and Italy as free of classical swine fever (CSF, which we referred to in the proposed rule as hog cholera), we chose to use the German “kreis” and the Italian “Region” because we considered them to be the smallest administrative jurisdictions that have “effective oversight of normal animal movements into, out of, and within that jurisdiction, and that, in association with national authorities, if necessary, have the responsibility for controlling animal disease locally.”

On April 7, 2003, we published in the Federal Register (68 FR 16922-16941, Docket No. 98-090-5) a final rule that, among other things, amended the regulations to recognize a region in the EU consisting of Austria, Belgium, Greece, the Netherlands, Portugal, and parts of Germany and Italy as free of CSF. In the final rule, APHIS did not recognize France, Spain, or Luxembourg as free of CSF, as we had proposed to do in our June 1999 proposed rule. This was because CSF outbreaks had occurred in domestic swine in each of those Member States after the publication of the proposed rule and we had not identified the smallest administrative jurisdictions within those Member States that we could use as “regions” in restricting the importation of swine and swine products from less than the whole Member State.

Following the elimination of CSF in domestic swine in France and Spain (April 26, 2002, and April 30, 2002, respectively), on November 24, 2003, we published in the Federal Register (68 FR 65869-65871, Docket No. 98-090-6) a supplemental risk analysis which examined the risk of introducing CSF from the importation of swine and swine products from those two Member States. The supplemental risk analysis also identified the smallest administrative jurisdictions in France and Spain that could be considered “regions” in each of those Member States.

On April 20, 2004, we published in the Federal Register (69 FR 21042-21047, Docket No. 98-090-7) a final rule that recognized France and Spain as regions in which CSF does not exist and affirmed the designation of the Commune in France and the Comarca in Spain as the smallest administrative jurisdictions within those Member States that we will use for regionalization purposes.

We are giving notice that a draft document entitled “APHIS Considerations on the Identification of Administrative Units for Certain Member States of the European Union” is available for public review and are requesting comments on the draft document for 60 days. In the draft document we identify the smallest administrative jurisdictions in 11 Member States that we would use to regionalize those Member States in the event of future animal disease outbreaks. As discussed in the draft document, we believe that each of those jurisdictions is the smallest that can be demonstrated to have effective oversight of normal animal movements into, out of, and within that Member State, and that, in association with national authorities, if necessary, has effective control over animal movements and animal diseases locally. For the sake of convenience, the draft document and any future rulemakings will refer to these jurisdictions as “administrative units” (AUs).

The draft document designates AUs for 11 Member States within the EU region. These Member States are: Austria, Belgium, Denmark, Finland, Greece, Ireland, Luxembourg, the Netherlands, Portugal, Sweden, and the United Kingdom. Because APHIS considers the entire territory of Luxembourg to be the smallest possible administrative jurisdiction with effective control over animal movement and control of animal disease locally, the entire country of Luxembourg will be considered one AU. The draft document also reidentifies the AU for Italy as the Aziende Sanitarie Locali (Local Health Unit). In the event of an animal disease outbreak, APHIS could regionalize a Member State to the AU level specified in our draft document. Although addressed in the document in the context of the specific disease, CSF, the concept of regionalization to the AU level is not disease specific.

Accessing the Draft Document on the Internet

The draft document may be viewed on the may be viewed on the EDOCKET Web site (see ADDRESSES above for instructions for accessing EDOCKET). You may request paper copies of the draft document by calling or writing to the person listed under FOR FOR FURTHER INFORMATION CONTACT. Please refer to the title of the draft document when requesting copies. The draft document is also available for review in our reading room (information on the location and hours of the reading room is listed under the heading ADDRESSES at the beginning of this notice).

Done in Washington, DC, this 18th day of April 2005.
W. Ron DeHaven,
Administrator, Animal and Plant Health Inspection Service.

[FR Doc. E5-1881 Filed 4-20-05; 8:45 am]

BILLING CODE 3410-34-P